DEPARTMENT OF COMMERCE

International Trade Administration

[A-583-875]

Dioctyl Terephthalate From Taiwan: Final Affirmative Determination of Sales at Less Than Fair Value

AGENCY: Enforcement and Compliance, International Trade Administration, Department of Commerce.

SUMMARY: The U.S. Department of Commerce (Commerce) determines that dioctyl terephthalate (DOTP) from Taiwan is being, or is likely to be, sold in the United States at less than fair value (LTFV). The period of investigation (POI) is January 1, 2023, through December 31, 2023.

DATES: Applicable March 28, 2025.

FOR FURTHER INFORMATION CONTACT: Brian Smith or Hannah Lee, AD/CVD Operations, Office VIII, Enforcement and Compliance, International Trade Administration, U.S. Department of Commerce, 1401 Constitution Avenue NW, Washington, DC 20230; telephone: (202) 482-1766 or (202) 482-1216, respectively.

SUPPLEMENTARY INFORMATION:

Background

On November 5, 2024, Commerce published the Preliminary Determination, in which we also postponed the final determination to March 20, 2025, and invited parties to comment on the Preliminary Determination.¹ For a complete description of the events that followed the Preliminary Determination, see the Issues and Decision Memorandum.²

¹ See Dioctyl Terephthalate From Taiwan: Preliminary Affirmative Determination of Sales at Less Than Fair Value, Postponement of Final Determination, and Extension of Provisional Measures, 89 FR 87846 (November 5, 2024) (Preliminary Determination), and accompanying Preliminary Decision Memorandum (PDM).

² See Memorandum, “Issues and Decision Memorandum for the Final Affirmative Determination of Sales at Less Than Fair Value in the Investigation of Dioctyl Terephthalate from Taiwan,” dated concurrently with, and hereby adopted by, this notice (Issues and Decision Memorandum).

The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Scope of the Investigation

The product covered by this investigation is DOTP from Taiwan. For a full description of the scope of this investigation, see Appendix I.

Scope Comments

We received no comments from interested parties on the scope of the investigation as it appeared in the Preliminary Determination. Therefore, we made no changes to the scope of the investigation.

Verification

As provided in section 782(i) of the Tariff Act of 1930, as amended (the Act), in November and December 2024, we conducted verification of the sales and cost information submitted by Nan Ya Plastics Corp. (NYP) for use in our final determination.³ We used standard verification procedures, including an examination of relevant sales and accounting records, and original source documents provided by NYP.

³ See Memoranda, “Verification of the Sales Response of Nan Ya Plastics Corporation in the Antidumping Investigation of Dioctyl Terephthalate from Taiwan,” dated January 2, 2025; and “Verification of the Cost Response of Nan Ya Plastics Corporation in the Antidumping Duty Investigation of Dioctyl Terephthalate from Taiwan,” dated February 6, 2025.

Analysis of Comments Received

The issues raised in case and rebuttal briefs that were submitted by parties in this investigation are addressed in the Issues and Decision Memorandum. A list of the issues addressed in the Issues and Decision Memorandum is attached to this notice at Appendix II.

Changes Since the Preliminary Determination

Based on our analysis of the comments received and our findings at verification, we made changes to NYP's dumping margin. For a discussion of these changes, see the Issues and Decision Memorandum.

Use of Adverse Facts Available (AFA)

As discussed in the Preliminary Determination, Commerce assigned dumping margins on the basis of AFA, pursuant to sections 776(a) and (b) of the Act, to two mandatory respondents that were non-responsive to Commerce's antidumping questionnaire, Fortune Chemical Corp. Ltd. (Fortune Chemical) and Oxyde Chemicals Singapore Pte. Ltd. (Oxyde Chemicals).⁴ For the final determination, we continue to find that the application of AFA, pursuant to sections 776(a) an (b) of the Act, is warranted with respect to these two non-responsive companies. Furthermore, we have continued to base the AFA rate for Fortune Chemical and Oxyde Chemicals on the highest individual transaction-specific margin calculated for Nan Ya (i.e., 32.94 percent) in accordance with Commerce's practice.⁵

⁴ See Preliminary Determination, 89 FR at 87846.

⁵ See Preliminary Determination PDM at 7; see also, e.g., Certain Paper Shopping Bags from Malaysia: Final Affirmative Determination of Sales at Less than Fair Value, 89 FR 45821 (May 24, 2024), and accompanying Issues and Decision Memorandum at 5-6.

All-Others Rate

Section 735(c)(5)(A) of the Act provides that the estimated weighted-average dumping margin for all other producers and exporters not individually examined shall be an amount equal to the weighted average of the estimated weighted-average dumping margins established for exporters and producers individually investigated, excluding any margins that are zero, de minimis, or determined entirely under section 776 of the Act, i.e., facts otherwise available.

For the final determination of this investigation, NYP was the only individually examined exporter/producer for which Commerce calculated an individual estimated weighted-average dumping margin. Because NYP's dumping margin is the only individually calculated dumping margin that is not zero, de minimis, or based entirely on facts otherwise available, the estimated weighted-average dumping margin calculated for NYP is the margin assigned to all other producers and exporters, pursuant to section 735(c)(5)(A) of the Act.⁶

⁶ See, e.g., Steel Threaded Rod from Thailand: Preliminary Determination of Sales at Less Than Fair Value and Affirmative Preliminary Determination of Critical Circumstances, 78 FR 79670, 79671 (December 31, 2013), unchanged in Steel Threaded Rod from Thailand: Final Determination of Sales at Less Than Fair Value and Affirmative Final Determination of Critical Circumstances, 79 FR 14476, 14477 (March 14, 2014).

Final Determination

The final estimated weighted-average dumping margins are as follows:

Producer or exporter | Estimated weighted- average dumping margin (percent)
Nan Ya Plastics Corp | 18.73
Oxyde Chemicals Singapore Pte. Ltd | * 32.94
Fortune Chemical Corp., Ltd | * 32.94
All Others | 18.73
* Rate based on facts otherwise available with adverse inferences.

Disclosure

Commerce intends to disclose the calculations performed in connection with this final determination to interested parties within five days of any public announcement or, if there is no public announcement, within five days of the publication of the notice in the Federal Register, in accordance with 19 CFR 351.224(b).

Continuation of Suspension of Liquidation

In accordance with section 735(c)(1)(B) of the Act, Commerce will instruct U.S. Customs and Border Protection (CBP) to continue to suspend liquidation of all appropriate entries of subject merchandise, as described in Appendix I of this notice, which were entered, or withdrawn from warehouse, for consumption on or after November 5, 2024, the date of publication of the Preliminary Determination in the Federal Register. These suspension of liquidation instructions will remain in effect until further notice.

Pursuant to section 735(c)(1)(B)(ii) of the Act and 19 CFR 351.210(d), where appropriate, Commerce will instruct CBP to require a cash deposit equal to the estimated weighted-average dumping margin or the estimated all-others rate, as follows: (1) the cash deposit rate for the respondents listed above will be equal to the company-specific estimated weighted-average dumping margin determined in this final determination; (2) if the exporter is not a company identified above but the producer is, then the cash deposit rate will be equal to the company-specific estimated weighted-average dumping margin established for that producer of the subject merchandise; and (3) the cash deposit rate for all other producers and exporters will be equal to the all-others estimated weighted-average dumping margin.

U.S. International Trade Commission (ITC) Notification

In accordance with section 735(d) of the Act, Commerce will notify the ITC of the final affirmative determination of sales at LTFV. Because Commerce's final determination is affirmative, in accordance with section 735(b)(2) of the Act, the ITC will make its final determination as to whether the domestic industry in the United States is materially injured, or threatened with material injury, by reason of imports or sales (or the likelihood of sales) for importation of DOTP from Taiwan, no later than 45 days after this final determination. If the ITC determines that such injury does not exist, this proceeding will be terminated, and all cash deposits posted will be refunded and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed above in the “Continuation of Suspension of Liquidation” section.

Administrative Protective Order (APO)

This notice will serve as a final reminder to parties subject to an APO of their responsibility concerning the disposition of proprietary information disclosed under APO in accordance with 19 CFR 351.305(a)(3). Timely written notification of return or destruction of APO materials or conversion to judicial protective order is hereby requested. Failure to comply with the regulations and the terms of an APO is a sanctionable violation.

Notification to Interested Parties

This determination is issued and published in accordance with sections 735(d) and 777(i)(1) of the Act, and 19 CFR 351.210(c).

Dated: March 20, 2025.
Christopher Abbott,
Deputy Assistant Secretary for Policy and Negotiations, performing the non-exclusion functions and duties of the Assistant Secretary for Enforcement and Compliance.

Appendix I—Scope of the Investigation

The merchandise covered by this investigation is dioctyl terephthalate (DOTP), regardless of form. DOTP that has been blended with other products is included within this scope when such blends include constituent parts that have not been chemically reacted with each other to produce a different product. For such blends, only the DOTP component of the mixture is covered by the scope of the investigations.

DOTP that is otherwise subject to this investigation is not excluded when commingled with DOTP from sources not subject to this investigation. Commingled refers to the mixing of subject and non-subject DOTP. Only the subject component of such commingled products is covered by the scope of this investigation.

DOTP has the general chemical formulation of C6H4 (C8H17COO)2 and a chemical name of “bis (2-ethylhexyl) terephthalate” and has a Chemical Abstract Service (CAS) registry number of 6422-86-2. Regardless of the label, all DOTP is covered by this investigation.

Subject merchandise is currently classified under subheading 2917.39.2000 of the Harmonized Tariff Schedule of the United States (HTSUS). Subject merchandise may also enter under subheadings 2917.39.7000 or 3812.20.1000 of the HTSUS. While the CAS registry number and HTSUS classifications are provided for convenience and customs purposes, the written description of the scope of this investigation is dispositive.

Appendix II—List of Topics Discussed in the Issues and Decision Memorandum

I. Summary

II. Background

III. Changes Since the Preliminary Determination

IV. Discussion of the Issues

Comment 1: Application of Adverse Facts Available (AFA) to Nan Ya Plastics Corp. (NYP)'s U.S. Sales Sold Through Fortune Chemical Corp. Ltd. (Fortune Chemical)

Comment 2: Incorporation of Sales Verification Corrections

Comment 3: Calculation of Home Market and U.S. Indirect Selling Expenses

Comment 4: Cost Verification Corrections

V. Recommendation

[FR Doc. 2025-05317 Filed 3-27-25; 8:45 am]

BILLING CODE 3510-DS-P